DEPARTMENT OF THE INTERIOR

Fish and Wildlife Service

[Docket No. FWS-R1-ES-2022-0074; ES11140100000-245-FF01E0000]

Draft Environmental Impact Statement for the Barred Owl Management Strategy; Washington, Oregon, and California

AGENCY: Fish and Wildlife Service, Interior.

ACTION: Notice of availability; notice of virtual public meetings; request for comments.

SUMMARY: The U.S. Fish and Wildlife Service (Service) developed a proposed barred owl management strategy (management strategy) to address the threat of the nonnative, invasive barred owl (Strix varia) to the native northern spotted owl (Strix occidentalis caurina) and California spotted owl (Strix occidentalis occidentalis). In accordance with the National Environmental Policy Act, this notice announces the availability of a draft environmental impact statement (DEIS) evaluating the impacts on the human environment related to the proposed management strategy and associated take of barred owls, which is prohibited under the Migratory Bird Treaty Act unless authorized by the Service by permit or regulation. We invite public comments on the proposed management strategy and DEIS from the public and Federal, Tribal, State, and local governments.

DATES: Submitting Comments: Hardcopy comments must be received or postmarked on or before January 16, 2024. (See ADDRESSES.) Comments submitted online at https://www.regulations.gov/ must be received by 11:59 p.m. eastern time on January 16, 2024.

Virtual Public Meetings: We will hold two virtual public meetings, on December 4, 2023, and December 14, 2023, from 6 to 8 p.m. Pacific time. For more information, see Virtual Public Meetings under SUPPLEMENTARY INFORMATION.

ADDRESSES: Submitting Comments: You may submit comments by one of the following methods:

• Internet: https://www.regulations.gov. Follow the instructions for submitting comments on Docket No. FWS-R1-ES-2022-0074.

• U.S. mail: Public Comments Processing; Attn: Docket No. FWS-R1-ES-2022-0074; U.S. Fish and Wildlife Service Headquarters, MS: PRB/3W; 5275 Leesburg Pike, Falls Church, VA 22041-3803.

We will post all comments on https://www.regulations.gov. This generally means that we will post online any personal information that you provide. We request that you submit comments by only the methods above. For additional information about submitting comments, see Public Comments under SUPPLEMENTARY INFORMATION.

Public Meeting: A registration link and access instructions for the virtual meetings will be posted to https://www.fws.gov/office/oregon-fish-and-wildlife at least 1 week prior to the public meeting dates. Reviewing U.S. Environmental Protection Agency (EPA) Comments on the DEIS: See EPA's Role in the EIS Process under SUPPLEMENTARY INFORMATION.

FOR FURTHER INFORMATION CONTACT: Robin Bown, by telephone at 503-231-6923, or by email at robin_bown@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The U.S. Fish and Wildlife Service (Service) developed a proposed barred owl management strategy (management strategy) to address the threat of nonnative invasive barred owl on two native owl subspecies in the West, the northern spotted owl (Strix occidentalis caurina) and California spotted owl (Strix occidentalis occidentalis). Implementation of the management strategy would involve the reduction of barred owl populations in targeted management areas in Washington, Oregon, and California. On July 22, 2022, the Service published a notice of intent (87 FR 43886) to develop a draft environmental impact statement (DEIS) evaluating the impacts on the human environment from implementation of the proposed management strategy and a reasonable range of alternatives, consistent with the purpose and goals of the National Environmental Policy Act (NEPA; 42 U.S.C. 4321 et seq.). The Service, with input from several Federal, State, and Tribal cooperating agencies, has prepared this DEIS pursuant to the Council on Environmental Quality's (CEQ's) implementing NEPA regulations at 40 Code of Federal Regulations (CFR) parts 1500-1508, which became effective on May 20, 2022 (April 20, 2022, 87 FR 23453). We invite public comments on the proposed management strategy and DEIS from the public and Federal, Tribal, State, and local governments.

Background

Spotted owls are native to western North America. Competition from the nonnative invasive barred owls has been identified as a primary threat to the northern spotted owl, listed as threatened under the Endangered Species Act (ESA; 16 U.S.C. 1531 et seq.), as well as a threat to the persistence of California spotted owl, which the Service has proposed to list as endangered in some areas and threatened in others (88 FR 11600, February 23, 2023). Additional primary threats include the loss of habitat to timber harvest on non-Federal lands and to wildfires on Federal lands.

Barred owls, native to eastern North America, began to expand their range around 1900, concurrent with European settlement and facilitated by the subsequent human-caused changes to the Great Plains and northern boreal forest. These slightly larger and more aggressive owls quickly displaced spotted owls from their historic territories. Without management of barred owls, extirpation of northern spotted owls from major portions of their historic range is likely in the near future. While barred owls have not substantially impacted California spotted owl populations to date, the establishment of a small barred owl population in the northern Sierra Nevada, and the history of the invasion and impacts on northern spotted owls following such expansion, indicates that barred owls are also a significant threat to the persistence of California spotted owls.

The barred owl is protected under the Migratory Bird Treaty Act (MBTA; 16 U.S.C. 703-712), which prohibits take of protected migratory bird species unless authorized by the Service through permit or regulation (50 CFR 21.10).

Purpose and Need for the Proposed Action

Using information from a recently completed barred owl removal experiment and other applicable studies and research findings, the Service determined that barred owl removal can be an effective method for the conservation of spotted owls. The purpose of this action is to reduce barred owl populations to improve the survival and recovery of northern spotted owls and to prevent declines in California spotted owls from barred owl competition. Relative to northern spotted owls, the purpose is to reduce barred owl populations within selected treatment areas in the short term and increase northern spotted owl populations in those treatment areas. Relative to the California spotted owl, the purpose is to limit the invasion of barred owls into the range of the subspecies and provide for a rapid response to reduce barred owl populations that may become established.

This action is needed because invasive barred owls compete with northern and California spotted owls. Competition from the invasive barred owl is a primary cause of the rapid and ongoing decline of northern spotted owl populations. Due to the rapidity of the decline, it is critical that we manage invasive barred owl populations to reduce their negative effect before northern spotted owls are extirpated from large portions of their native range. There is also a need to focus on limiting the invasion of barred owls into the California spotted owl range, as we expect additional impacts to California spotted owl populations would be inevitable without barred owl management, and invasive species are very difficult to remove once established.

Proposed Action and Alternatives

The proposed action is the issuance of a Migratory Bird Special Purpose permit under the MBTA (50 CFR 21.95) and implementation of the management strategy. The DEIS analyzes the proposed action, a no action alternative, and a reasonable range of alternatives to the proposed action, including the environmental consequences of each alternative. All action alternatives include issuance of an MBTA permit for management to reduce barred owl populations in areas within the northern spotted owl's range and to prevent establishment of barred owl populations within the California spotted owl's range. The locations and relative priorities for removal would vary by action alternative. None of the alternatives would require any entity to implement barred owl management; rather, they outline various combinations of management approaches, geographic areas, and other components that would allow for and guide management actions and the ability to prioritize areas of greatest need.

Six alternatives are analyzed in detail in the DEIS:

Alternative 1—No Action: under the no action alternative, a comprehensive management strategy would not be finalized or implemented, and the Service would not issue an MBTA permit for systematic management of barred owls. Ongoing barred owl removal as part of research efforts in California, and future research efforts that may be proposed anywhere in the range of the spotted owl, would still occur.

Alternative 2—Management Strategy Implementation (Proposed Action): Under the proposed action, we would apply three approaches to barred owl management within the northern spotted owl range: spotted owl site management, General Management Areas with associated Focal Management Areas, and Special Designated Areas. Site management involves removing barred owls from within and around spotted owl sites, with priority given to recently occupied sites. General Management Areas are large areas within which barred owl management would occur on smaller Focal Management Areas. Focal Management Areas would be established at the time of removal by the implementing entity, based on general direction and prioritization provided in the management strategy. Special Designated Areas are areas mapped to support specific identified needs, such as connectivity between populations, buffer zones to provide a barrier to invasion, special emphasis areas, or management of early invasions. In the California spotted owl range, where we are focused on early detection and rapid response at the invasion front, the proposed action focuses on surveys, inventory, and monitoring to detect invading barred owls and rapid removal of any barred owls detected.

Alternative 3—Management Across the Range: Under this alternative, barred owl management could be implemented anywhere within the range of the northern or California spotted owls or within 15 miles of the range of the subspecies on up to 50 percent of the area. There would be no specific requirements for size or location of management areas.

Alternative 4—Limited Management by Province/Population: Within the northern spotted owl range, this alternative would focus barred owl management on a single large General Management Area within each province. This approach supports a single, but larger, spotted owl population in each province. In the California spotted owl range, barred owl management would be delayed until detections reached 10 percent of surveys in areas within the Sierra Nevada portion of the population, or 5 percent within the Coastal-Southern California portion of the province. This would allow barred owl populations to be established, but removed before they can substantially impact spotted owls.

Alternative 5—Management Focused on Highest Risk Areas: In the northern spotted owl range, this alternative would focus barred owl management in the northern provinces, where the subspecies is at greatest risk of extirpation from barred owl competition in the Washington East Cascades, Washington West Cascades, Oregon East Cascades, Oregon West Cascades, Oregon Coast Ranges, and Olympic Peninsula Physiographic Provinces. In the California spotted owl range, barred owl management would be limited to the northern Sierra Nevada portion of the subspecies range, where the barred owl invasion initially occurred and represents the most likely pathway for larger numbers of barred owls to invade the California spotted owl range.

Alternative 6—Management Focused on Best Conditions: This alternative would focus barred owl management in the southern portion of the northern spotted owl range, where spotted owl populations have not decreased to the degree they have in the north, including the Oregon Klamath, California Coast, California Klamath, and California Cascades Physiographic Provinces. In the California spotted owl range, barred owl management would be focused on areas with the best remaining habitat and areas with higher fire resiliency, including the Sierra Nevada portion of the range with the best remaining habitat, and the Coastal-Southern California portion of the range.

Summary of Impacts

The DEIS describes the potential direct and indirect effects of each alternative on the human environment, focusing on impacts to barred owls, spotted owls, other wildlife species, recreation and visitor use, wilderness, socioeconomics, and climate change, as well as cumulative effects of the action when added to the effects of other past, present, and reasonably foreseeable actions. Effects to other resources were considered but dismissed from detailed analysis because significant effects on public health and safety, cultural resources, Tribes, ethical considerations, environmental justice, or geology, soils, water, vegetation, or air quality are not expected.

Lead and Cooperating Agencies

The Service is the lead agency for the NEPA process, including development of the DEIS. The following agencies are cooperating agencies in the NEPA process and provided input and assistance with the development of the EIS: U.S. Forest Service (Regions 5 and 6), Bureau of Land Management (Oregon), Bureau of Land Management (California), National Park Service (Interior Regions 8, 9, 10, 12), Washington Department of Fish and Wildlife, Washington Department of Natural Resources, Oregon Department of Forestry, Oregon Department of Fish and Wildlife, California Department of Fish and Wildlife, and the California Department of Forestry and Fire Protection.

Anticipated Permits and Authorizations

In addition to compliance with the ESA and MBTA discussed above, compliance with section 106 of the National Historic Preservation Act is required by law for all Federal undertakings. The proposed action of issuing an MBTA permit is a Federal undertaking. In this case, our preliminary analysis is that the proposed action has no potential to cause effects, because the proposed action, along with all action alternatives, does not involve any ground disturbing or other activities that might result in direct or indirect effects to known or potential cultural resources.

Depending on the location and landowners involved in implementation of the management strategy, barred owl management could require additional Federal and State permits. We anticipate the potential need to acquire permits from the States of Washington, Oregon, and California to carry out the proposed barred owl removal actions under the proposed management strategy.

EPA's Role in the EIS Process

The EPA is charged under section 309 of the Clean Air Act with reviewing all Federal agencies' EISs and commenting on the adequacy and acceptability of the environmental impacts of proposed actions. Under the CEQ NEPA regulations, EPA is also responsible for administering the EIS filing process. EPA is publishing a notice in the Federal Register announcing this DEIS. The publication date of EPA's notice of availability is the official beginning of the public comment period. EPA serves as the repository (EIS database) for EISs prepared by Federal agencies. You may search for EPA comments on EISs, along with EISs themselves, at https://cdxapps.epa.gov/cdx-enepa-II/public/action/eis/search.

Public Comments

You may submit your comments and materials on the proposed management strategy and the DEIS by one of the methods in ADDRESSES. We specifically request information on the following:

1. Biological information, analysis, and relevant data concerning the barred owl, spotted owl, and their interactions.

2. Components of the barred owl strategy, including but not limited to:

a. Locations where barred owl management should be focused or where management should be avoided;

b. Specific techniques for removal of barred owls or reduction in barred owl populations; and

c. Criteria and approaches for selecting management areas.

3. The alternatives analysis conducted by the Service, including the alternatives analyzed, the range of alternatives analyzed, and the alternatives considered but not analyzed in detail.

4. Potential effects of the proposed action and alternatives on other aspects of the human environment, including other wildlife species and habitats as well as aesthetic, historic, cultural, economic, social, environmental justice, or health resources.

5. Cumulative effects, which are effects on the environment that result from the incremental effects of the action when added to the effects of other past, present, and reasonably foreseeable actions, as well as any connected actions that are closely related and should be discussed in the same DEIS.

6. The alternatives, information, and analyses submitted during the public scoping period and the summary thereof.

7. Other information relevant to the proposed management strategy and MBTA take authorization, and its impacts on the human environment.

Virtual Public Meeting

To provide for the wide attendance of interested parties, two virtual public meetings will be conducted. See DATES and ADDRESSES for the dates and times of the virtual public meetings. During the meetings, the Service will present information about the management strategy and MBTA take authorization and provide an opportunity for the public to ask questions about the proposed management strategy and the DEIS. The first meeting will provide additional focus on barred owl management within the northern spotted owl's range. The second meeting will provide additional focus on management within the range of California spotted owls. No opportunity for oral comments will be provided. Written comments may be submitted by the methods listed in ADDRESSES.

Reasonable Accommodations

Persons needing reasonable accommodations in order to participate in the public meetings should contact the Service's Oregon Fish and Wildlife Office as soon as possible, using one of the methods listed in ADDRESSES. In order to allow sufficient time to process requests, please make contact at least 10 days before the public meeting date. Information regarding this proposed action is available in alternative formats upon request.

Public Availability of Comments

You may submit your comments and materials by one of the methods listed in ADDRESSES. Before including your address, phone number, or other personal identifying information in your comment, you should be aware that your entire comment—including your personal identifying information—might be made publicly available at any time. While you can ask us in your comment to withhold your personal identifying information from public review, we cannot guarantee that we will be able to do so. All submissions from organizations or businesses, and from individuals identifying themselves as representatives or officials of organizations or businesses, will be made available for public disclosure in their entirety.

Comments and materials we receive, as well as references for supporting documentation we used in preparing the DEIS, will be available for public inspection online in Docket No. FWS-R1-ES-2022-0074 at https://www.regulations.gov/ (see FOR FURTHER INFORMATION CONTACT).

Next Steps and Decision To Be Made

After public review and comment, the Service will review any comments received and prepare a final EIS (FEIS). The Service will also complete an ESA Section 7 biological opinion before making a final decision. At least 30 days after the FEIS is published, we expect that the Service will complete a record of decision pursuant to 40 CFR 1505.2, in accordance with applicable timeframes established in 40 CFR 1506.11. The current estimate for the issuance of the record of decision is July 2024.

Authority

We provide this notice in accordance with the requirements of NEPA and its implementing regulations (40 CFR 1503.1 and 1506.6).

Bridget Fahey,
Deputy Regional Director, Pacific Region.

[FR Doc. 2023-25032 Filed 11-16-23; 8:45 am]

BILLING CODE 4333-15-P